DEPARTMENT OF AGRICULTURE

Rural Utilities Service

7 CFR Parts 1728 and 1755

Standards and Specifications for Timber Products Acceptable for Use by Rural Utilities Service Electric and Telecommunications Borrowers

AGENCY: Rural Utilities Service, USDA.

ACTION: Final rule.

SUMMARY: The Rural Utilities Service (RUS) is amending its regulations on Electric and Telecommunications Standards and Specifications for Materials, Equipment and Construction, by codifying specifications for wood poles, stubs and anchor logs, wood crossarms (solid and laminated), transmission timbers and pole keys, and for quality control and inspection of timber products. RUS is updating these specifications to conform with revisions to the American Wood Preservers' Association (AWPA) standards and follow agency policy on insurance requirements.

DATES: Effective Date: This final rule will become effective July 25, 2011.

Incorporation by Reference: The incorporation by reference of certain publications listed in this rule is approved by the Director of the Federal Register as of July 25, 2011.

FOR FURTHER INFORMATION CONTACT: Mr. H. Robert Lash, Transmission Branch, Electric Staff Division, Rural Utilities Service, U.S. Department of Agriculture, Room 1246, STOP 1569, 1400 Independence Ave., SW., Washington, DC 20250-1569; telephone: (202) 720-0486, or, e-mail: Bob.Lash@wdc.usda.gov.

SUPPLEMENTARY INFORMATION:

Executive Order 12866

This final rule is exempted from the Office of Management and Budget (OMB) review for purposes of Executive Order 12866 and, therefore, has not been reviewed by OMB.

Executive Order 12372

This final rule is excluded from the scope of Executive Order 12372, Intergovernmental Consultation, which may require consultation with State and local officials. A notice of final rule entitled “Department Programs and Activities Excluded from Executive Order 12372” (50 FR 47034) exempted the Rural Utilities Service loans and loan guarantees from coverage under this order.

Executive Order 12988

This final rule has been reviewed under Executive Order 12988, Civil Justice Reform. The Rural Utilities Service has determined that this rule meets the applicable standards provided in section 3 of the Executive Order. In addition, all State and local laws and regulations that are in conflict with this final rule will be preempted. No retroactive effect will be given to this final rule and in accordance with section 212(e) of the Department of Agriculture Reorganization Act of 1994 (7 U.S.C. 6912(e)) administrative appeal procedures, if any, must be exhausted before an action against the Department or its agencies may be initiated.

Executive Order 13132

This final rule will not have substantial direct effects on the States, on the relationship between the national government and the States, or on distribution of power and responsibilities among the various levels of government. Under Executive Order 13132, this final rule does not have sufficient federalism implications to require preparation of a Federalism Assessment.

Regulatory Flexibility Act Certification

The Rural Utilities Service has been determined that the Regulatory Flexibility Act is not applicable to this rule since USDA Rural Utilities Service is not required by 5 U.S.C. 551 et seq. or any other provision of the law to publish a notice of proposed rulemaking with request to the subject matter of this rule.

Information Collection and Recordkeeping Requirements

This information collection and recordkeeping requirements contained in this final rule are cleared under OMB control number 0572-0076 pursuant to the Paperwork Reduction Act of 1995 (44 U.S.C. Chapter 35, as amended).

Catalog of Federal Domestic Assistance

The program described by this final rule is listed in the Catalog of Federal Domestic Assistance Programs under No. 10.850, Rural Electrification Loans and Loan Guarantees. This catalog is available on a subscription basis from the Superintendent of Documents, U.S. Government Printing Office, Washington, DC 20402-9325, telephone number (202) 512-1800.

Executive Order 12372

This final rule is excluded from the scope of Executive Order 12372, Intergovernmental Consultation, which may require consultation with State and local officials. See the final rule related notice titled “Department Programs and Activities Excluded from Executive Order 12372” (50 FR 47034), advising that the Rural Utilities Service loans and loan guarantees are excluded from the scope of Executive Order 12372.

Unfunded Mandates

This final rule contains no Federal Mandates (under the regulatory provision of title II of the Unfunded Mandates Reform Act of 1995 [2 U.S.C. Chapter 25]) for State, local, and tribal governments or the private sector. Thus, this final rule is not subject to the requirements of sections 202 and 205 of the Unfunded Mandates Reform Act of 1995.

National Environmental Policy Act Certification

The Rural Utilities Service has determined that this final rule will not significantly affect the quality of the human environment as defined by the National Environmental Policy Act of 1969 (42 U.S.C. 4321 et seq.). Therefore, this action does not require an environmental impact statement or assessment.

General Discussion

A proposed rule entitled “Standards and Specifications for Timber Products Acceptable for Use by Rural Development Utilities Programs' Electric and Telecommunications Borrowers” was published in the Federal Register on September 29, 2008 at 73 FR 56513, and the public was invited to submit comments on or before November 28, 2008. Comments were received and are addressed in the Summary of Comment section of this rule.

The Rural Utilities Service maintains bulletins that contain construction standards and specifications for materials and equipment. These standards and specifications apply to systems constructed by electric and telecommunications borrowers in accordance with the loan contract, and contain standard construction units, materials, and equipment units used on electric and telecommunications borrowers' systems. Bulletins 1728F-700, “Specification for Wood Poles, Stubs and Anchor Logs”; 1728H-701, “Specification for Wood Crossarms (Solid and Laminated), Transmission Timbers and Pole Keys”; and 1728H-702, “Specification for Quality Control and Inspection of Timber Products”, establish standards for the manufacture and inspection of wood utility poles, crossarms and poles keys. The summary of the major changes to these three bulletins are as follows:

1. All references cited in these bulletins are updated to the latest edition.

2. The definition “pole broker” was added to the list of definitions to include as many organizations as possible to provide borrowers a source from which they might purchase wood products.

3. Allow borrowers six months to notify treating plants about poles not meeting the required preservative retention.

4. In accordance with RUS policy on insurance requirements for contractors working for borrowers, the specification was revised to require manufacturers and inspection agencies to maintain certain limits of liability and errors and omission insurance.

5. All poles are required to be sterilized during the conditioning or treating cycle. This sterilization should further reduce the number of poles with pre-treatment decay.

6. Required to brand independent inspection agency's identification on the face of the pole.

7. RUS revised the qualifications for inspectors and quality control personnel and will return to the qualifications from the 1987 edition of the specifications.

8. Provisions are added to further clarify that wood products, producers and inspection agencies maintain the greatest degree of separation and eliminate any appearance of conflict of interest.

Summary of Comments

The Agency received comments and recommendations in response to the proposed rule from the following organizations: North American Wood Pole Council (NAWPC), McFarland Cascade, Cox Industrial Group, Wood Quality Control (WQC), Cox Industrial Group, Lee Inspection and Consulting Services, A.W. Williams Inspection Co. (AWW), Texas Electric Cooperatives (TEC), Timber Products Inspection and Dis-Tran Wood Products. No comments from any other sources were received. These comments and recommendations and the Agency's responses are summarized as follows:

Comment: Lee Inspection, NAWPC, TEC, and AWW questioned the need for liability insurance and errors and emission insurance and the amount of coverage.

Agency Response: RUS has required outside contractors doing work for borrowers to have high levels of liability insurance for many years. The insurance requirement was added to stay in line with present agency practices. The proposed insurance was reviewed and the errors and omission insurance requirement was eliminated for pole and crossarm producers. Since inspection agencies are performing a service, their liability and errors and omissions insurance requirement remains.

Comment: NAWPC and Timber Products Inspection questioned the need to treat kiln dried poles within 30 days after drying.

Agency Response: Paragraph 4.2.1 of Bulletin 1728F-700 dated September 1993 requires that “kiln dried poles shall be treated within 1 month from the time they are removed from the kiln.” This has been an RUS requirement for nearly twenty years and RUS believes that this requirement is needed.

Comment: NAWPC and Timber Products Inspection questioned why there is an inconsistency in paragraph 8.1 of Bulletin 1728F-700 concerning sterilization of Douglas fir poles.

Agency Response: The sterilization time for Douglas-fir is revised to be in line with other species.

Comment: McFarland, NAWPC and Timber Products Inspection suggested the inclusion of the modified full cell process to help control overtreatment.

Agency Response: The modified full cell process was added as suggested.

Comment: Timber Products Inspection pointed out that the maximum temperature for treatment in Western Red Cedar in the table in paragraph 8.2 of Bulletin 1728F-700 is not in agreement with American Wood Protection Association Standards.

Agency Response: Bulletin 1728F-700 was revised to meet the AWPA standard.

Comment: NMWPC, Timber Products Inspection and TEC mentioned that the wording in paragraph 9.6.2 of Bulletin 1728F-700 be revised from “supplemental groundline type preservative” to “a preservative approved for use in ground line contact by the AWPA.”

Agency Response: Wording was revised to use “a preservative approved for use by AWPA.”

Comment: Lee Inspection, NMWPC, Timber Products Inspection and AWW felt to certify inspectors and quality control personnel on the use of XRF equipment was unreasonable.

Agency Response: RUS agrees that this requirement may be difficult to achieve because there is no organization set up to perform this service. This provision was eliminated.

Comment: McFarland and TEC raised questions about the addition of the inspection agency's designation on the face brand and the use of tags.

Agency Response: This requirement does not add an extra line to the face brand. It replaces the Quality Assurance mark currently required on the second line of the brand. Treaters will be given 6 months from the publication date of this notice to revise their face brands. For treaters using metal tags, if the existing tag cannot be altered to show the independent inspection agency designation a separate tag showing this information shall be added. Metal tag users have three months to start revising their current tags or ordering an additional tags to show the agency information.

Comment: Lee Inspection disagrees with the RUS's proposal to not allow one independent inspection agency to subcontract their contracted inspection to another party.

Agency Response: When an Electric Borrower designates an inspection agency to act as their agent and inspect pole on their behalf the RUS believes they actually want that company to do the work. RUS believes that this requirement is reasonable.

Comment: Lee Inspection disagrees with the RUS's stand on not allowing independent inspection agencies to offer product warranties on inspected material.

Agency Response: RUS wants, as a secured lender, to eliminate any appearance of a conflict of interest between independent inspectors and treaters. A product warranty put out by an inspection agency for a pole or crossarm produced by another company is unacceptable. RUS is not changing this provision.

Comment: Lee Inspection and AWW are concerned with the wording “Failure of a selected third-party inspection agency to properly perform their required overview responsibilities may subject said agency to subsequent liability claims for unsatisfactory or inadequate product performance.”

Agency Response: This specific language will be from the final rule, however, the potential liability incurred by the inspection agency for any improper performance will be left up to the borrower.

Comment: Lee Inspection and AWW felt the frequency of the precision check by independent inspectors for the x-ray fluorescence instrument at treating plant weekly was too onerous.

Agency Response: In some cases this requirement could be too burdensome. In response, the frequency was changed to monthly for analysis of preservative and treated wood at the inspector's agency laboratory.

Comment: Cox Industrial Group and Dis-Tran wanted to require borrowers to store crossarms under cover to be eligible for the one year warranty.

Agency Response: The conformance period of one year from date of delivery should not be affected if arms are stored indoors, outdoors or installed on poles. As a result, RUS will not change the proposal.

Comment: Timber Products Inspection noted that the radial drilling depths were left off Table 10 in Bulletin 1728F-700.

Agency Response: This information was added back into the bulletin.

Comment: McFarland Cascade questioned the limiting of butt treated poles to arid regions.

Agency Response: Since butt treated poles have shown to have good durability in areas other than arid regions the final rule is revised to limit their use to low to moderate decay zones.

Comment: McFarland Cascade and Timber Products questioned allowing through boring for poles were raised.

Agency Response: In response to this, a section on allowing through boring was added.

Comment: WQC suggested that the Insured Warranty program be removed since it has not been used in many years.

Agency Response: This plan for supplying poles has continued to be included to keep several options open for suppliers. There have been a few instances where suppliers have tried to start using this program again.

Comment: WQC suggested that RUS limit the percentage of defects of a “lot” of poles from 15% to 5%, which is the AWPA limit, before the entire lot is rejected.

Agency Response: In response, RUS will revise their reject percentage to stay in line with AWPA Standards.

List of Subjects

7 CFR Part 1728

Electric power, Incorporation by reference, Loan programs—energy, Reporting and recordkeeping requirements, Rural areas.

7 CFR Part 1755

Incorporation by reference, Loan programs—communications, Reporting and recordkeeping requirements, Rural areas, Telephone.

For reasons set forth in the preamble, chapter XVII of title 7 of the Code of Federal Regulations is amended as follows:

PART 1728—ELECTRIC STANDARDS AND SPECIFICATIONS FOR MATERIALS AND CONSTRUCTION

1. The authority citation for part 1728 continues to read as follows:

Authority: 7 U.S.C. 901 et seq.; 1921 et seq., 6941 et seq.

2. Revise § 1728.97 to read as follows:

§ 1728.97 Incorporation by reference of electric standards and specifications.

The materials listed below are incorporated by reference in the corresponding sections noted. The Director of the Federal Register approves the incorporations by reference in accordance with 5 U.S.C. 552(a) and 1 CFR part 51. A notice of any change in these materials will be published in the Federal Register. Standards and specifications materials are available for purchase at the addresses in the corresponding sections noted below. The materials incorporated by reference may also be inspected at the Rural Utilities Service's Program Development and Regulatory Analysis, Stop 1520, Room 5820-S, Washington, DC 20250-1522, call (202) 720-8674. Bulletins are also available for inspection at the National Archives and Records Administration (NARA). For information on the availability of these materials at NARA, call (202) 741-6030, or go to: http://www.archives.gov/or at the Office of the Federal Register, 800 North Capitol Street, NW., suite 700, Washington, DC, or go to: http://www.archives.gov/federal_register/code_of_federal_regulations/ibr_locations.htm.

(a) The following RUS bulletins are available from the Rural Utilities Service, Room 1246-S, U.S. Department of Agriculture, Washington, DC 20250. For information on the availability of this material, call (202) 720-1900. The bulletins containing construction standards (50-4 and 1728F-803 to 1728F-811) may be obtained from the Superintendent of Documents, U.S. Government Printing Office (GPO) for Washington, DC 20402, Phone: 1-866-512-1800 (toll-free) 202-512-1800 (DC Area) or go to the GPO Web site at: http://www.gpoaccess.gov/about/index.html.

(1) Bulletin 50-4 (D-801), Specification and Drawings for 34.5/19.9 kV Distribution Line Construction (11-86), incorporation approved for § 1728.98.

(2) Bulletin 50-15 (DT-3), RUS Specifications for Pole Top Pins with 1⅜′ Diameter Lead Thread (1-51), incorporation approved for § 1728.98.

(3) Bulletin 50-16 (DT-4), RUS Specifications for Angle Suspension Brackets (3-52), incorporation approved for § 1728.98.

(4) Bulletin 50-19 (DT-7), RUS Specifications for Clevis Bolts (8-53), incorporation approved for § 1728.98.

(5) Bulletin 50-23 (DT-18), RUS Specifications for 60″ Wood Crossarm Braces (2-71), incorporation approved for § 1728.98.

(6) Bulletin 50-31 (D-3), RUS Specifications for Pole Top Pins with 1” Diameter Lead Threads (2-79), incorporation approved for § 1728.98.

(7) Bulletin 50-32 (D-4), RUS Specifications for Steel Crossarm Mounted Pins with 1″ Diameter Lead Threads (10-50), incorporation approved for § 1728.98.

(8) Bulletin 50-33 (D-5), RUS Specifications for Single and Double Upset Spool Bolts (2-51), incorporation approved for § 1728.98.

(9) Bulletin 50-34 (D-6), RUS Specifications for Secondary Swinging Clevises (12-70), incorporation approved for § 1728.98.

(10) Bulletin 50-35 (D-7), RUS Specifications for Service Swinging Clevises (9-52), incorporation approved for § 1728.98.

(11) Bulletin 50-36 (D-8), RUS Specifications for Service Deadend Clevises (9-52), incorporation approved for § 1728.98.

(12) Bulletin 50-40 (D-14), RUS Specifications for Pole Top Brackets for Channel Type Pins (9-51), incorporation approved for § 1728.98.

(13) Bulletin 50-41 (D-15), RUS Specifications for Service Wireholders (11-51), incorporation approved for § 1728.98.

(14) Bulletin 50-55 (T-2), RUS Specifications for Overhead Ground Wire Support Brackets (5-53), incorporation approved for § 1728.98.

(15) Bulletin 50-56 (T-3), RUS Specifications for Steel Plate Anchors for Transmission Lines (12-53), incorporation approved for § 1728.98.

(16) Bulletin 50-60 (T-9), RUS Specification—Single Pole Steel Structures, Complete with Arms (12-71), incorporation approved for § 1728.98.

(17) Bulletin 50-72 (U-4), RUS Specification for Electrical Equipment Enclosures (5-35 kV) (10-79), incorporation approved for § 1728.98.

(18) Bulletin 50-73 (U-5), RUS Specifications for Pad-Mounted Transformers (Single and Three-Phase) (1-77), incorporation approved for § 1728.98.

(19) Bulletin 50-74 (U-6), RUS Specification for Secondary Pedestals (600 Volts and Below) (10-79), incorporation approved for § 1728.98.

(20) Bulletin 50-91 (S-3), RUS Specifications for Step-Down Distribution Substation Transformers (34.4-138 kV) (1-78), incorporation approved for § 1728.98.

(21) Bulletin 1728F-700, RUS Specification for Wood Poles, Stubs and Anchor Logs (3-2011), incorporation approved for §§ 1728.98, 1728.202.

(22) Bulletin 1728F-803, Specifications and Drawings for 24.9/14.4 kV Line Construction (10-98), incorporation approved for § 1728.98.

(23) Bulletin 1728F-804 (D-804), Specification and Drawings for 12.47/7.2 kV Line Construction, October 2005, incorporation approved for § 1728.98.

(24) Bulletin 1728F-806 (D-806), Specifications and Drawings for Underground Electric Distribution, June 2000, incorporation approved for § 1728.98.

(25) Bulletin 1728F-810, Electric Transmission Specifications and Drawings, 34.5 kV to 69 kV (3-98), incorporation approved for §§ 1728.98 and 1728.201.

(26) Bulletin 1728F-811, Electric Transmission Specifications and Drawings, 115 kV to 230 kV (3-98), incorporation approved for §§ 1728.98 and 1728.201.

(b) The following material is available for purchase from American Institute of Timber Construction (AITC), 7012 S. Revere Park Way, Englewood, Colorado 80112, telephone (303) 792-9559, web address: https://www.aitc-glulam.org/index.asp.

(1) AITC 200-2004, Manufacturing Quality Control Systems Manual For Structural Glued Laminated Timber, copyright 2004, (incorporation by reference approved for §§ 1728.201 and 1728.202.

(2) [Reserved]

(c) The following standards are available for purchase from the American National Standards Institute (ANSI), 25 West 43rd Street, New York, New York 10036, telephone (212) 642-4900, Web address: http://www.ansi.org/.

(1) ANSI O5.2-2006, American National Standard for Wood Products, Structural Glued Laminated Timber for Utility Structures, approved December 5, 2006, incorporation by reference approved for §§ , 1728.201, 1728.202.

(2) ANSI O5.3.2008, American National Standard for Wood Poles and Wood Products, Solid Sawn-Wood Crossarms & Braces—Specifications & Dimensions, approved July 15, 2008, incorporation by reference approved for § 1728.201.

(d) [Reserved]

(e) The following standards from the American Wood Protection Association (AWPA), Book of Standards, 2008 edition, are available for purchase from AWPA, P.O. Box 361784, Birmingham, AL 35236-1784, telephone 205-733-4077, http://www.awpa.com/.

(1) AWPA A1-06, Standard Methods for Analysis of Creosote and Oil-Type Preservatives, amended in 2006, incorporation by reference approved for §§ 1728.201 and 1728.202.

(2) AWPA A2-08, Standard Methods for Analysis of Waterborne Preservatives and Fire-Retardant Formulations, 2008, incorporation by reference approved for §§ 1728.201 and 1728.202.

(3) AWPA A3-08, Standard Methods for Determining Penetration of Preservatives and Fire Retardants, revised in 2008, incorporation by reference approved for §§ 1728.201and 1728.202.

(4) AWPA A5-05, Standard Methods for Analysis of Oil-Borne Preservatives, 2008, incorporation by reference approved for §§ 1728.201 and 1728.202.

(5) AWPA A6-01, Method for the Determination of Oil-Type Preservatives and Water in Wood, amended in 2001, incorporation by reference approved for § 1728.202.

(6) AWPA A7-04, Standard for Wet Ashing Procedures for Preparing Wood for Chemical Analysis, amended in 2004, incorporation by reference approved for § 1728.202.

(7) AWPA A9-01, Standard Method for Analysis of Treated Wood and Treating Solutions By X-Ray Spectroscopy, amended in 2001, incorporation by reference approved for §§ 1728.201 and 1728.202.

(8) AWPA M2-07, Standard for Inspection of Wood Products Treated with Preservatives, reaffirmed in 2007, incorporation by reference approved for § 1728.202.

(9) AWPA M3-05, Standard Quality Control Procedures for Wood Preserving Plants, amended in 2005, incorporation by reference approved for § 1728.202.

(10) AWPA P1/P13-06, Standard for Creosote Preservative, reaffirmed in 2006, incorporation by reference approved for §§ 1728.201 and 1728.202.

(11) AWPA P5-08, Standard for Waterborne Preservatives, revised in 2008, incorporation by reference approved for §§ 1728.201and 1728.202.

(12) AWPA P8-08, Standard for Oil-Borne Preservatives, revised in 2008, incorporation by reference approved for §§ 1728.201and 1728.202.

(13) AWPA P9-06, Standards for Solvents and Formulations for Organic Preservative Systems, copyright 2008, incorporation by reference approved for §§ 1728.201 and 1728.202.

(f) The following material is available from Southern Pine Inspection Bureau Standards, 4709 Scenic Highway, Pensacola, Florida 32504-9094, telephone (850) 434-2611. The web address for the Southern Pine Inspection Bureau is http://www.spib.org/.

(1) Special Product Rules for Structural, Industrial, and Railroad-Freight Car Lumber, effective October 15, 1991, incorporation by reference approved for § 1728.201.

(2) [Reserved]

(g) The following material is available for purchase from West Coast Lumber Inspection Bureau, P.O. Box 23145, Portland, Oregon 97281, telephone (503) 639-0651, fax (503) 684-8928. The web address for is http://www.wclib.org/.

(1) Standard No. 17, Grading Rules for West Coast Lumber, Revised January 1, 2004, incorporation by reference approved for § 1728.201.

(2) [Reserved]

3. Add new § 1728.98 to read as follows:

§ 1728.98 Electric standards and specifications.

(a) To comply with this part, you must follow the requirements contained in the following REA/RUS bulletins. These bulletins are incorporated by reference in § 1728.97 of this part.

(1) Bulletin 50-4 (D-801), Specification and Drawings for 34.5/19.9 kV Distribution Line Construction (11-86).

(2) Bulletin 50-15 (DT-3), RUS Specifications for Pole Top Pins with 1⅜′ Diameter Lead Thread (1-51).

(3) Bulletin 50-16 (DT-4), RUS Specifications for Angle Suspension Brackets (3-52).

(4) Bulletin 50-19 (DT-7), RUS Specifications for Clevis Bolts (8-53).

(5) Bulletin 50-23 (DT-18), RUS Specifications for 60″ Wood Crossarm Braces (2-71).

(6) Bulletin 50-31 (D-3), RUS Specifications for Pole Top Pins with 1″ Diameter Lead Threads (2-79).

(7) Bulletin 50-32 (D-4), RUS Specifications for Steel Crossarm Mounted Pins with 1″ Diameter Lead Threads (10-50).

(8) Bulletin 50-33 (D-5), RUS Specifications for Single and Double Upset Spool Bolts (2-51).

(9) Bulletin 50-34 (D-6), RUS Specifications for Secondary Swinging Clevises (12-70).

(10) Bulletin 50-35 (D-7), RUS Specifications for Service Swinging Clevises (9-52).

(11) Bulletin 50-36 (D-8), RUS Specifications for Service Deadend Clevises (9-52).

(12) Bulletin 50-40 (D-14), RUS Specifications for Pole Top Brackets for Channel Type Pins (9-51).

(13) Bulletin 50-41 (D-15), RUS Specifications for Service Wireholders (11-51).

(14) Bulletin 50-55 (T-2), RUS Specifications for Overhead Ground Wire Support Brackets (5-53).

(15) Bulletin 50-56 (T-3), RUS Specifications for Steel Plate Anchors for Transmission Lines (12-53).

(16) Bulletin 50-60 (T-9), RUS Specification—Single Pole Steel Structures, Complete with Arms (12-71).

(17) Bulletin 50-72 (U-4), RUS Specification for Electrical Equipment Enclosures (5-35 kV) (10-79).

(18) Bulletin 50-73 (U-5), RUS Specifications for Pad-Mounted Transformers (Single and Three-Phase) (1-77).

(19) Bulletin 50-74 (U-6), RUS Specification for Secondary Pedestals (600 Volts and Below) (10-79).

(20) Bulletin 50-91 (S-3), RUS Specifications for Step-Down Distribution Substation Transformers (34.4-138 kV) (1-78).

(21) Bulletin 1728F-700, RUS Specification for Wood Poles, Stubs and Anchor Logs (3-2011).

(22) Bulletin 1728F-803, Specifications and Drawings for 24.9/14.4 kV Line Construction (10-98).

(23) Bulletin 1728F-804 (D-804), Specification and Drawings for 12.47/7.2 kV Line Construction, October 2005.

(24) Bulletin 1728F-806 (D-806), Specifications and Drawings for Underground Electric Distribution, June 2000.

(25) Bulletin 1728F-810, Electric Transmission Specifications and Drawings, 34.5 kV to 69 kV (3-98).

(26) Bulletin 1728F-811, Electric Transmission Specifications and Drawings, 115 kV to 230 kV (3-98).

(b) The terms “RUS form”, “RUS standard form”, “RUS specification”, and “RUS bulletin” have the same meanings as the terms “REA form”, “REA standard form”, “REA specification”, and “REA bulletin”, respectively unless otherwise indicated.

4. Sections 1728.201 and 1728.202 are revised to read as follows:

§ 1728.201 Bulletin 1728H-701, Specification for Wood Crossarms (Solid and Laminated), Transmission Timbers and Pole Keys.

(a) General Provisions. (1) This section implements contractual provisions between Rural Utilities Service (RUS) and borrowers receiving financial assistance. The contractual agreement between RUS and its borrowers requires the borrower's system to be constructed in accordance with agency accepted plans and specifications. Each electric borrower must purchase only wood crossarms produced in accordance with the specification in this section.

(2) Each electric borrower shall require each contractor to agree in writing to furnish only materials produced in accordance with the specifications in this section.

(3) This specification describes the minimum acceptable quality of wood distribution crossarms and transmission crossarms (hereinafter called crossarms) that are purchased by or for borrowers. Where there is conflict between this specification and any other specification referred to in this section, this specification shall govern.

(4) Various requirements relating to quality control and inspection are contained in § 1728.202 of this part, Specification for Quality Control and Inspection of Timber Products. Section 1728.201 of this part, ANSI O5.2, (incorporated by reference in § 1728.97), and ANSI O5.3, (incorporated by reference in § 1728.97) shall be followed exactly and shall not be interpreted or subjected to judgment by the quality control person or an independent inspector.

(5) The purchaser shall purchase from producers only material that meets the requirements of this specification. Each purchaser shall use a written purchase order to purchase material for use in financed systems in order to ensure compliance with the standards and specifications of this part. The written purchase order shall contain a provision that specifically requires the producer to comply with the provisions of this part. The purchase order shall contain a provision that specifically requires the producer to make the treating plant and storage areas available, during normal business hours, in order for representatives of either the purchaser or this agency to inspect such to determine compliance with the standards and specifications of this part.

(6) The producer shall provide the inspectors with full information (drawings, etc.) relating to the requirements contained in the purchase order which is supplementary to this specification.

(7) The producer shall maintain, or have access to, adequate laboratory facilities at or very near the treating plant, and all chemical tests, assays or analyses associated with the treatment shall be independently performed in this laboratory by both the quality control designee and the borrower's inspector. The producer may use a central laboratory as accepted on a case-by-case basis.

(8) Inspection and treatment of all timber products produced under this specification shall be performed after receipt of the order from the purchaser, except as provided for reserve treated stock.

(9) The testing and inspection of the lamination process shall be in accordance with AITC 200 (incorporated by reference in § 1728.97).

(10) With the exception of reserve treated stock, if requested by the borrower invoices for treated timber products shall be accompanied, in duplicate, by a copy of the producer's Certificate of Compliance and a copy of either the Independent Inspection Report or a Quality Assurance Plan Certificate. For reserve treated stock, inspection reports shall be available from the inspection agency. When shipped from reserve stock, the invoice shall bear an endorsement and a further certification by the producer that the material meets the requirements of this specification and any supplementary requirements cited in the purchase order under which it is purchased.

(11) Crossarms shall be warranted to conform to this specification. If any crossarm is determined to be defective or does not conform to this specification within 1 year after delivery to the borrower, it shall be replaced as promptly as possible by the producer. In the event of failure to do so, the purchaser may make such replacement and the cost of the crossarm, at destination, shall be recoverable from the producer.

(12) Crossarm producers shall take out and maintain liability insurance for not less than $1 million. Upon request, evidence of compliance shall be provided. The evidence shall be in the form of a certificate of insurance signed by a representative of the insurance company and include a provision that no changes in, or cancellation of, will be made without the prior written notice to the Director, Electric Staff Division, Rural Utilities Service.

(b) Definitions.

Agency refers to Rural Utilities Service (RUS), United States Department of Agriculture.

Arm refers to structural wood member used to support electrical conductors and equipment. Arm is used interchangeably with crossarm.

Certificate of compliance is a written certification by an authorized employee of the producer that the material shipped meets the requirements of this specification and any supplementary requirements specified in a purchase order from a borrower or the borrower's contractor.

Crossarm refers to a structural wood member used to support electrical conductors and equipment and is a term used interchangeably with arm.

Independent inspection relates to examination of material by an independent inspector employed by a commercial inspection agency.

Inspection means an examination of material in sufficient detail to ensure conformity to all phases of the specification under which it was purchased.

Lot is a quantity of crossarms of like size, conditioning, and fabrication, usually making up one treating charge.

Producer is used to describe the party who manufactures and/or treats crossarms.

Purchaser refers to either the borrower or contractors acting as the borrower's agent, except where a part of the specification specifically refers to only the borrower or the contractor.

Quality control designee refers to an individual designated by the producer to oversee proper operation of the manufacturer's internal quality control system.

Reserve treated stock consists of timber products treated in accordance with this specification, prior to and in anticipation of the receipt of specific orders, and held in storage ready for immediate shipment.

Supplier is a term used interchangeably with producer, or in some cases, may be the distributor selling crossarms to the borrower.

Treating plant is the organization that applies the preservative treatment to the crossarms.

(c) Independent Inspection Plan. This plan or a Quality Assurance Plan, as described in paragraph (e) of this section, is acceptable for supplying crossarms. All crossarms purchased under the Independent Inspection Plan, for use on an agency financed system shall be inspected by a qualified independent inspector in accordance with § 1728.202 of this part.

(1) The borrower has the prerogative to contract directly with the inspection agency for service. The borrower should, where practical, select the inspection agency so that continual employment is dependent only on performance acceptable to the borrower and in accordance with this specification. The selected inspection agency shall not be allowed to subcontract the service to any other inspection agency.

(2) The producer shall not be permitted to be a party to the selection of the inspection agency by the borrower and shall not interfere with the work of the inspector, except to provide notification of the readiness of material for inspection. To obtain inspection services for reserve stock, the producer may deal directly with the inspection agency. The producer shall not be permitted to treat material before it has been properly inspected and hammered with the appropriate inspection/quality assurance mark.

(3) The methods of inspection described in this section and in § 1728.202 of this part shall be used no matter which plan crossarms are produced under, i.e., Independent Inspection Plan, or Quality Assurance Plans, as described in this section

(d) Quality Assurance Plans. The producer shall furnish crossarms conforming to this specification as monitored by an acceptable Quality Assurance Plan. Borrower groups or agents for borrower groups endeavoring to operate Quality Assurance Plans shall submit their plan for assuring quality control to the Chairman, Technical Standards Committee “A”, Electric Staff Division, Rural Utilities Service, Stop 1569, Washington, DC 20250-1569.

(e) Material Requirements. (1) Material and Grade. All crossarms furnished under this specification shall be free of brashy wood, decay, and insect holes larger than 3/32 of an inch and shall meet additional requirements as shown on specific drawings. Crossarms shall be made of one of the following:

(i) Douglas-fir which conforms to the applicable crossarm provisions of paragraphs 170 and 170a, or the applicable transmission arm provisions of paragraphs 169 and 169a of the Standard No. 17 Grading Rules for West Coast Lumber (incorporated by reference in § 1728.97). Only coastal origin Douglas-fir shall be used for Douglas-fir crossarms manufactured under this specification;

(ii) Southern Yellow Pine which conforms to the provisions of Dense Industrial Crossarm 65, as described in paragraph 31.2 in the 2001 Southern Pine Inspection Bureau's Special Product Rules for Structural, Industrial, and Railroad-Freight Car Lumber, (incorporated by reference at § 1728.97); or

(iii) Laminated wood crossarms shall conform to ANSI O5.2 (incorporated by reference at § 1728.97) and have at least the same load carrying capacity as the solid sawn arm it replaces. The load carrying capacity of the laminated arms shall be determined by one of the procedures outlined in ANSI O5.2.

(2) Borrowers may use alternative crossarms that are listed in Informational Publication 202-1, List of Materials Acceptable for Use on Systems of USDA Rural Utilities Service Borrowers. For information on the availability of this material, call RUS at (202) 720-1900, or go to: http://www.rurdev.usda.gov/UEP_Engineering_LOM.html.

(3) Knots. Sound, firm, and tight knots, if well spaced, are allowed.

(i) Slightly decayed knots are permitted, except on the top face, provided the decay extends no more than ¾ of an inch into the knot and provided the cavities will drain water when the arm is installed. For knots to be considered well spaced, the sum of the sizes of all knots in any 6 inches of length of a piece shall not exceed twice the size of the largest knot permitted. More than one knot of maximum permissible size shall not be in the same 6 inches of length. Slightly decayed, firm, or sound “pin knots” (⅜ of an inch or less) are not considered in size, spacing, or zone considerations.

(ii) Knots are subject to limits on size and location as detailed in Tables I and II.

Table I—Knot Limits for Distribution Arms (See Figure 1, Appendix A)
[All dimensions in inches]
Class of knot and location | Maximum: Close grain | Knot | Diameter: Dense grain
Round Knots
Single Knot: Maximum Diameter Center Section*
Upper Half | ¾ |  | 1
Lower Half | 1 |  | 1¼
Elsewhere | 1¼ |  | 1½
Sum of Diameters in a 6-Inch Length: Maximum:
Center Section
Upper Half | 1½ |  | 2
Lower Half | 2 |  | 2½
Elsewhere | 2½ |  | 3
* No knot shall be closer than its diameter to the pole mounting hole.

Table II—Knot Limits for Transmission Arms (See Figure 2, Appendix A)
[All dimensions in inches]
Pole mounting hole zone * | Maximum diameter for Single Knot
UPPER HALF (inner zone) | ¾.
UPPER HALF (outer zone) | 1 for close grain.
| 1¼ dense grain.

Other locations transmission arm size ** | Narrow face | Wide face (two sides): Edge | Wide face (two sides): Along centerline
4⅝ × 5⅝ or less | 1 | 1¼ | 1¼
5⅝ × 7⅜ | 1¼ | 1⅜ | 1⅞
3⅝ × 9⅜ | ¾ | 1¾ | 2¼
* No knot shall be closer than its diameter to the pole mounting hole.
** For cross sections not shown, refer to grading rules.

(iii) Knot clusters shall be prohibited unless the entire cluster, measured on the worst face, is equal to or less than the round knot allowed at the specific location.

(iv) Spike knots shall be prohibited in deadend arms. Any spike knot across the top face shall be limited to the equivalent displacement of a knot ⅜ of an inch deep on one face and the maximum round knot for its particular location on the worst face, with a maximum width of 1 inch measured at the midpoint of the spiked section. Elsewhere across the bottom or side faces, spike knots shall not exceed ½ the equivalent displacement of a round knot permitted at that location, provided that the depth of the knot on the worst face shall not exceed the maximum round knot allowed at that location.

(v) Loose knots and knot holes shall be such that they can drain water when the arm is installed in its normal position. In the center section, upper half, loose knots shall not be greater than ½ the dimensions of round knots. Elsewhere, loose knots shall not be greater than the round knot dimension. Loose knots shall be prohibited in deadend arms.

(vi) All knots except those “spike” knots intersecting a corner shall be measured on the least diameter of the knot.

(vii) A knot shall be considered to occupy a specific zone or section if the center of the knot (i.e., pith of knot) is within the zone or on the zone's boundary.

(viii) If a round or oval knot appears on two faces and is in two zones, each face shall be judged independently. When this does not occur, average the least dimension showing on both faces. Knots which occur on only one face of a free of heart center (FOHC) arm shall be permitted to be 25 percent larger than the stated size.

(ix) Two or more knots opposite each other on any face shall be limited by a sum not to exceed the size of a maximum single knot permitted for the location. On all four faces, all knots shall be well spaced.

(x) Knots which have a maximum of ⅝ inch diameter may intersect pin holes in the center section. One inch diameter knots may intersect insulator pin holes elsewhere.

(4) Miscellaneous characteristics, features, and requirements. (i) The top face of distribution crossarms shall not have more than four medium pitch and bark pockets in 8-foot arms, and not more than five pitch and bark pockets in 10-foot arms. Elsewhere a maximum of six medium pockets in 8-foot arms and eight in 10-foot arms shall be permitted. Equivalent smaller pockets shall be permissible. An occasional large pocket is permissible.

(ii) Shakes shall be prohibited.

(iii) Prior to treatment on properly seasoned arms, single face checks shall not exceed an average penetration of ¼ the depth from any face and shall be limited to 10 inches long on the top face, and ⅓ the arm length on the other faces. Checks shall not be repeated in the same line of grain in adjacent pin holes. The sum of the average depths of checks occurring in the same plane on opposite faces shall be limited to ¼ the face depth.

(iv) Compression wood shall be prohibited on any face. Compression wood is permitted if wholly enclosed in the arm, more than six annual rings from the surface, and not over ⅜ of an inch in width.

(v) Insect holes 3/32 of an inch and larger shall be prohibited. Insect pin holes (i.e. holes not over 1/16 of an inch diameter) shall be allowed if scattered and not exceeding 10 percent of the arm girth.

(vi) Wane shall be allowed on one edge, limited to approximately 1 inch measured across the corner. Outside of the top center section, an aggregate length not to exceed 2 feet may have wane up to 1½ inches on an occasional piece on one or both edges. Bark shall be removed.

(vii) Prior to and after preservative treatment, crook, bow, or twist shall not exceed ½ of an inch in 8 foot arms and ⅝ of an inch in 10 foot arms.

(f) Manufacturing. (1) All dimensions and tolerances shall conform to those shown on the drawings in this section or drawings supplied with the purchase order. Drawings supplied shall meet or exceed minimum dimensions and tolerances shown on the drawings in this section. Cross-sectional dimensions shall be measured and judged at about ¼ the arm length, except when the defects of “skip dressing” or “machine bite or offset” are involved.

(2) Lamination techniques shall comply with ANSI O5.2 (incorporated by reference at § 1728.97).

(3) Pin and bolt holes shall be smoothly bored without undue splintering where drill bits break through the surface. The center of any hole shall be within ⅛ of an inch of the center-line locations on the face in which it appears. Holes shall be perpendicular to the starting and finishing faces.

(4) Shape. The shape of the arms at any cross section, except for permissible wane, shall be as shown on the respective drawings in this section or supplied with the order. The two top edges may be either chamfered or rounded ⅜ of an inch radius. The two bottom edges shall be slightly eased ⅛ of an inch radius for the entire length.

(5) Incising. The lengthwise surfaces of Douglas-fir crossarms shall be incised approximately ¼ of an inch deep. The incision shall be reasonably clean cut with a spacing pattern that ensures uniform penetration of preservative.

(6) Quality of work. All crossarms shall be of the highest quality production. Crossarms shall be dressed on four sides, although “hit and miss skips” may occur on two adjacent faces on occasional pieces.

(g) Conditioning prior to treatment. (1) All solid sawn crossarms shall be made of lumber which has been kiln-dried. Douglas-fir arms shall have an average moisture content of 19 percent or less, with a maximum not to exceed 22 percent in a single arm. Southern Yellow Pine arms shall have an average moisture content of 22 percent or less, with a maximum not to exceed 30 percent in a single arm.

(2) Moisture content levels shall be measured at about ¼ the length and at a depth of about ⅕ the crossarm's thickness. Additionally, the moisture content gradient between the shell (i.e. ¼ of an inch deep) and the core (i.e. about 1 inch deep) shall not exceed 5 percentage points.

(3) A minimum of at least 20 solid sawn crossarms per treating charge shall be measured to verify moisture content and shall be duly recorded by the quality control designee.

(4) The moisture content of lumber used in laminating shall, at the time of gluing, be within the range of 8 to 12 percent, inclusive.

(h) Preservatives. (1) The preservatives shall be:

(i) Creosote which conforms to the requirements of AWPA P1/13-06 (incorporated by reference at § 1728.97), when analyzed in accordance with the methods in AWPA A1-06 (incorporated by reference at § 1728.97), sections 2, 3, 4, either 5 or 9, and 6;

(ii) Pentachlorophenol which contains not less than 95 percent chlorinated phenols and conforms to AWPA P8-08 (incorporated by reference at § 1728.97) when analyzed in accordance with AWPA A5-05 (incorporated by reference at § 1728.97) or AWPA A9-01 (incorporated by reference at § 1728.97). The hydrocarbon solvents for introducing the preservative into the wood shall meet the requirements of AWPA P9-06 (incorporated by reference at § 1728.97) Type A;

(2) Waterborne Preservatives shall be any of the following:

(i) Ammoniacal Copper Arsenates (ACA) and Ammoniacal Copper Zinc Arsenate (ACZA) which shall meet the requirements of AWPA P5-08 (incorporated by reference at § 1728.97), when analyzed in accordance with methods in AWPA A2-08 (incorporated by reference at § 1728.97) or AWPA A9-01 (incorporated by reference at § 1728.97); and

(ii) Chromated Copper Arsenates (CCA) which shall meet the requirements of one of the formulations given in AWPA P5-08 (incorporated by reference at § 1728.97) sections 4, 5 or 6, and 10. Tests to establish conformity shall be made in accordance with AWPA A2-08 (incorporated by reference at § 1728.97) or A9-01 (incorporated by reference at § 1728.97).

(A) The pH of treating solutions of the waterborne preservatives shown in AWPA P5-08 (incorporated by reference at § 1728.97) section 10, shall be determined in accordance with AWPA A2-08, (incorporated by reference at § 1728.97) section 8.

(B) The oxide formulations of waterborne preservatives shall be supplied.

(C) Douglas-fir crossarms shall not be treated with CCA preservatives.

(D) Materials treated with waterborne preservatives shall be free of visible surface deposits.

(iii) Copper Naphthenate (CuN) concentrate used to prepare wood preserving solutions shall contain not less than 6 percent nor more than 8 percent copper in the form of CuN and shall conform to AWPA P8-08 (incorporated by reference at § 1728.97) when analyzed in accordance with AWPA A5-05 (incorporated by reference at § 1728.97). The hydrocarbon solvents for introducing the preservative into the wood shall meet the requirements of AWPA P9-06 (incorporated by reference at § 1728.97) Type A.

(i) Preservative treatment. (1) All timber products treated under this specification shall be treated by either a pressure or a thermal (non-pressure) process.

(2) These materials may be further conditioned by steaming, or by heating in hot oil (Douglas-fir), within the following limits:

| Time hours (max.) | Temperature
Steam | 3 | 220° F
Heating in Preservation | 3 | 210° F

(3) A final steam or hot oil bath may be used only to meet cleanliness requirements of paragraph (k) of this section. Total duration of the final steam bath shall not exceed 2 hours and the temperature shall not exceed 240 degrees Fahrenheit.

(j) Results of treatments. (1) The quality control designee shall test or supervise the testing of each treated charge for penetration and retention.

(2) Method of sampling. When testing penetration and retention, a borer core shall be taken from not less than 20 crossarms in each treating charge. The borings shall be taken from any face except the top face at a point as close to the end as possible, being at least 3 inches from the end of the arm and no closer than 3 inches from the edge of the holes. The bored holes shall be plugged with preservative-treated plugs driven into the arm. Borings from laminated arms shall not be taken from the same laminate unless there is an end joint separation.

(3) As determined in accordance with AWPA A3-08 (incorporated by reference at § 1728.97) all sapwood present in Douglas-fir or Southern Yellow Pine crossarms shall be completely penetrated with preservative. In the heartwood of Douglas-fir crossarms, the penetration shall be not less than 3 inches longitudinally from the edge of holes and ends, and at least 3/16 inch from the surface of any face.

(4) Retention of preservative in the outer 6/10 of an inch for Douglas-fir and one inch for Southern Yellow Pine assay zones at the treating plant shall be not less than:

Preservation | Retention (pcf) | AWPA analysis method **
Creosote | 8 | A6.
Pentachlorophenol | * 0.4 | A5.
ACA, ACZA, or CCA | 0.4 | A2, A7, or A9.
Copper Naphthenate | 0.04 | A5, or A9.
* The pentachlorophenol retention is for the lime ignition method. The copper pyridine method, retention 0.36 pcf is required when timbers may have been in contact with salt water, and for all species native to the Pacific coast region. It is not required when it specifically states on the rough sawn material invoice that this material has not been in contact with salt water or is shown by analysis to have no additional chlorides present in the wood before treating.
** All the AWPA Analysis Methods are incorporated by reference at § 1728.97.

(5) Cleanliness of lengthwise surfaces of all crossarms shall be free from tarry, greasy, or sticky material, and from oil exudation and pentachlorophenol crystallization (blooming).

(6) Re-treatment of materials which do not meet the penetration and retention requirements of this specification may be done only twice. Initial treatment steaming time plus re-treatment steaming time, combined, shall not exceed time allowed in paragraph (i) of this section.

(k) Marks and brands. (1) All crossarms shall be legibly branded (hot brand) or die-stamped and to a depth of approximately 1/16 of an inch before treatment.

(2) The letters and figures shall be not less than ½ of an inch in height. The top of the brand shall be oriented to the top of the arm.

(3) The brand or die-stamp shall include:

(i) The manufacturer's identification symbol;

(ii) Month and year of manufacture;

(iii) Species of timber such as DF for Douglas-fir and SP for Southern Yellow Pine; and

(iv) The preservative notated with a C for creosote, P for penta, S for waterbornes, or N for Copper Naphthenate.

(4) An example is:

M-6-06 Manufacturer—Month—Year

DF-P Douglas-fir—penta treated

(5) The brand or stamp shall be placed on either of the wide surfaces of the arms, oriented with letters right side up towards the top of the arm and preferably about 1 foot from the midpoint of the arm.

(6) Each producer should mark each type of arm in approximately the same location on the arm.

(7) Brands, inspection marks, or quality assurance marks shall be removed from arms that do not meet these specifications.

(l) Storage. (1) Producers may treat crossarms for reserve stock under any of the agency approved plans.

(2) Crossarms treated with oil-borne preservatives which have been held in storage for more than 1 year before shipment to the borrower, shall be re-assayed before shipment and shall be re-treated if found nonconforming for retention on orders placed in accordance with this section.

(3) Crossarms shall meet the assay after re-treatment in accordance with paragraph (k) of this section.

(4) Crossarms which are held in storage after final acceptance shall be stacked in piles or on skids in such a manner as to assure good ventilation. The stacks shall be covered or stored indoors for protection from the sun and weather to reduce checking, bending, and loss of preservative.

(m) Drawings. (1) The drawings of Appendix B of this section, Crossarm Drilling Guide, have a type number and show in detail the hole size, shape, and pattern desired for crossarms ordered under this specification.

(2) Purchase orders shall indicate the type crossarm required.

(3) Crossarms shall be furnished in accordance with the details of these drawings or in accordance with drawings attached to the purchase order.

(4) Appropriate drawings for transmission arms are to be specified and included with purchase orders. Technical drawings for transmission crossarms are published in Bulletin 1728F-811, “Electric Transmission Specifications and Drawings, 115kV through 230kV” (incorporated by reference at § 1728.97), and Bulletin 1728F-810, “Electric Transmission Specification and Drawings, 34.5kV through 69kV” (incorporated by reference at § 1728.97).

(n) Destination inspection. All crossarms shall meet or exceed their minimum dimensions for at least 1 year after date of delivery to the borrower.

BILLING CODE P

BILLING CODE C

Appendix C to § 1728.201—Metric Conversion Factors
To convert from | To | Multiply by
Foot (ft) | Meter (m) | 0.3048
Inch (in) | Centimeter | 2.54
Pound per cubic foot (pcf) (lb/ft ³) | Kilogram per cubic meter (kg/m ³) | 16.01846
Pound per square inch (psi) (lb/in ²) | Kilogram per square meter (kg/m ²) | 703.0696
Degrees Fahrenheit (°F) | Degrees Celsius (°C) | 5/9(F°−32)

§ 1728.202 Bulletin 1728H-702, Specification for Quality Control and Inspection of Timber Products.

(a) Scope. This specification describes in more detail the responsibilities and procedures pertaining to quality control for crossarms, as specified in section 1728.201 of this part, and poles, covered in Bulletin 1728F-700, “Specification for Wood Poles, Stubs and Anchor Logs,” incorporated by reference in § 1728.97 of this part and in § 1755.97 of 7 CFR part 1755.

(b) General stipulations. (1) Conformance of poles and crossarms to agency specifications for the most part is the responsibility of the producer's management.

A member of the producer's staff shall be designated quality control designee and charged with the responsibility for the exercise of proper quality control procedures.

(2) The requirements of AWPA M3-05 (incorporated by reference at § 1728.97), covering records, adequate laboratory, plant gauges, and other plant facilities including proper storage, shall be followed.

(3) The methods of inspection described in this section shall be used no matter which plan timber products are purchased under, i.e., Insured Warranty Plan, Independent Inspection Plan, or Quality Assurance Plans, as described in § 1728.201 of this part or Bulletin 1728F-700 (incorporated by reference at § 1728.97). The number of poles and crossarms actually inspected by monitors for quality control under a Quality Assurance Plan or the Insured Warranty Plan may vary from the number of poles and crossarms inspected under the Independent Inspection Plan. Under the Independent Inspection Plan, each pole and a sample number of crossarms shall be inspected.

(4) Under the Independent Inspection Plan, the borrower should designate in the purchase order which inspection agency it has selected. Unless the borrower contracts for inspection as a separate transaction, the treating company shall obtain the services of the borrower's designated inspection agency. For reserve treated stock for purchase under the Independent Inspection Plan, the treating company shall obtain the services of an inspection agency.

(5) Individual inspectors in the employ of Independent Inspection Agencies shall be experienced and competent. The inspector shall perform all phases of the inspection personally and in the proper sequence. The primary responsibility of the inspector is to determine, for the borrower, by careful inspection and verification, that the timber products, preservative, and treatment meet the requirements of Bulletins 1728F-700 (incorporated by reference at § 1728.97) and § 1728.201 of this part (Bulletin 1728H-701) and that the methods, storage facilities, and production equipment conform to applicable specifications. For details of the inspector's qualifications see Appendix A of this section.

(6) Independent inspection agencies and inspectors shall maintain their impartiality. To do so, inspection agencies, inspectors, producers and brokers must maintain the greatest degree of separation and eliminate even the appearance of a conflict of interest. Inspection agencies shall not receive gratuities from or enter into financial agreements, other than for inspection services, with suppliers for which they perform inspection. Inspection agencies shall not provide gratuities or free services to suppliers. Inspection agencies shall not offer product warranties on inspected material.

(7) Failure of an individual inspector to follow proper procedures or failure of an inspection agency to properly train and supervise inspectors or follow the appropriate RUS specifications constitutes grounds for RUS debarment of said company from future inspection of RUS financed material

(8) Inspection agencies shall have and maintain liability insurance in the amount of $500,000 and a surety bond or miscellaneous errors and omission insurance for consequential damages for not less than $250,000. Upon request, evidence of compliance to this requirement shall be forwarded to the agency. The evidence shall be in the form of a certificate of insurance or a Bond signed by a representative of the insurance or Surety Bonding company and include a provision that no change in, or cancellation of, will be made without the prior written notice to Chairman, Technical Standards Committee “A” (Electric).

(9) Inspection agencies shall maintain their own laboratory that is properly equipped, and capable of completely analyzing the respective preservatives and retentions, and at a minimum able to run referee methods. This laboratory shall be independent from any treating plant laboratory. Independent Inspection Agencies may use one central laboratory.

(10) Laminated materials manufactured for use on borrower systems shall comply with manufacturing and quality control requirements specified in ANSI O5.2 (incorporated by reference in § 1728.97). The product shall be marked and certified.

(i) Laminated material shall be inspected in accordance with ANSI O5.2, (incorporated by reference in § 1728.97).

(ii) Quality control of material shall be performed to determine conformance with § 1728.201 of this part and AITC 200, (incorporated by reference in § 1728.97).

(c) Quality control and inspection procedures for product acceptance. It is the responsibility of the plant quality control designee to perform the following procedures to ensure that a particular lot of material conforms to the requirements of the applicable Agency specification prior to treatment. After the plant quality control designee has performed these procedures, a particular lot of material shall be released to the inspector for verification of conformance.

(1) Poles can be purchased under any of the three purchase plans. These plans are Insured Warranty Plan, Independent Inspection Plan, or a Quality Assurance Plan. Under all of these plans, all poles in a lot shall be inspected by the plant quality control designee.

Under the Insured Warranty Plan and a Quality Assurance Plan, the number of poles inspected by a third party inspector may be less than every pole, depending on the terms of the plans.

(i) Ample space and assistance shall be provided by the treating plant for handling and turning to ensure that the surfaces of all items can be adequately inspected.

(ii) Under the Independent Inspection Plan, all poles shall be inspected by the Independent Inspector for conformance to the requirements of Bulletin 1728F-700 (incorporated by reference at § 1728.97). If a pole is rejected and the cause of rejection is corrected, the rejected pole may be offered again for inspection as new material.

(iii) Dimensions, length, and circumference shall be measured by a standard steel tape to determine that they are in agreement with the details for class and length in the brand and butt stamp. If it is obvious by visual comparison with a measured pole that the brand information is correct, individual poles need not be measured. Pole circumference dimensions made prior to treatment shall govern acceptance. Reduction in dimension due to treatment and shipping shall be not more than 2 percent below the minimum for the pole class.

(iv) If 5 percent of the poles in a lot offered for inspection are defective, the inspector shall terminate the inspection. Re-examination of an entire lot by plant quality control shall be required when the number of rejected poles equals or exceeds 5 percent of the lot inspected. All defective or nonconforming poles either shall be removed from the lot or have their brands marked out.

(v) Poles in a lot shall be inspected for decay and all poles shall be of the same seasoning condition. If the plant quality control designee suspects that decay is present, a slice from both ends shall be cut for closer examination. If 3 percent of the inspected poles in a lot show evidence of decay, the entire lot shall be unconditionally rejected without further sorting.

(vi) Moisture content, when limited by the purchaser, as stated on the purchaser's purchase order, shall be measured by calibrated electronic moisture meter. Calibration of the meter shall include not only the zero settings for the X and Y readings, but also two resistance standards for 12 and 22 percent moisture content.

(vii) Material failing to conform for moisture content may be retested upon request after a recalibration of the instrument. The results of the second test shall govern disposition of the lot.

(viii) Re-examination for any mechanical damage or deterioration and for original acceptance shall be conducted on timber products not treated within 10 days after original inspection.

(2) Crossarms can be purchased only under either of two purchase plans. These plans are the Independent Inspection Plan or Quality Assurance Plans. Under the Independent Inspection Plan, crossarms are to be inspected prior to manufacture, during manufacture, and after treatment. Under a Quality Assurance Plan, crossarms are inspected according to the terms of the quality assurance program acceptable to Rural Utilities Service.

(i) Inspection prior to treatment shall include:

(A) Surface inspection of all ends of all arms. This is usually done on the stacks of arms prior to manufacture. Particular attention shall be paid to defects commonly found in the ends, such as compression wood, red heart and other forms of decay, shakes, splits, through checks, scantiness, honeycomb, and low density, determined by rings per inch and percent of summerwood. All non-conforming arms shall be rejected. Whenever the number of nonconforming arms is found to exceed 0.5 percent of the lot or one arm, whichever is greater, the entire lot shall be rejected for excess number of defective ends. After the producer has removed or marked out the defective material, the arms may be resubmitted for inspection.

(B) Surface inspection of the lengthwise sides performed on a random representative sample. The sample size shall equal 20 percent of a lot size or 200 arms, whichever is smaller. The inspector shall examine side surfaces as they are slowly rotated. When necessary, the rotation may be stopped for closer inspection. All non-conforming arms shall be rejected. Whenever the number of nonconforming arms is found to exceed 2 percent of the sample size, the entire lot shall be rejected. After the producer has removed or marked out the defective material, the arms may be resubmitted for inspection.

(C) Check of moisture content of the random sample by a calibrated moisture meter.

(D) Check of crossarm dimensions of the random sample measured after surfacing.

(ii) Inspection during manufacture shall consist of:

(A) Checking bolt and insulator pin holes for squareness and excessive splintering;

(B) Checking brands for completeness, location, and legibility; and

(C) Checking arms for conformance.

(iii) Under the Independent Inspection Plan, there shall be a final inspection after treatment for preservative retention and penetration and for damage.

(3) Structural glued laminated timber shall be tested and inspected in accordance with AITC 200 (incorporated by reference in § 1728.97). Grade of lumber shall be inspected by a qualified grader for specified quality, so marked. Adhesives used for all structural arms shall meet requirements of ANSI O5.2 (incorporated by reference at § 1728.97) paragraph 5.2. Melamine urea adhesives shall not be used. End joint spacing and limitations shall be in accordance with ANSI O5.2.

(d) Preservatives. (1) Creosote shall conform to the requirements of AWPA P1/P13-06 (incorporated by reference in § 1728.97) when analyzed by AWPA A-06, (incorporated by reference in § 1728.97) sections 2, 3, 4, either 5 or 9, and 6, as follows:

(i) Each occasional charge; and

(ii) The first charge and one of every five charges randomly selected in consecutive charges shall be analyzed.

(2) Solutions of waterborne preservatives shall be analyzed for components in accordance with AWPA A2-08 (incorporated by reference in § 1728.97)) or AWPA A9-01 (incorporated by reference in § 1728.97) and shall meet the requirements of AWPA P5-08 (incorporated by reference in § 1728.97) for composition. AWPA A2-08 shall be used as a referee method.

(3) Pentachlorophenol shall contain not less than 95 percent chlorinated phenols and should conform to AWPA P8-08 (incorporated by reference in § 1728.297), in hydrocarbon solvent AWPA P9-06, Type A (incorporated by reference in § 1728.97).

(4) Copper Naphthenate in hydrocarbon solvent AWPA P9-06 Type A (incorporated by reference in § 1728.97), shall contain not less than 6 percent nor more than 8 percent copper in the form of Copper Naphthenate and shall conform to AWPA P8-08 (incorporated by reference in § 1728.97), when analyzed in accordance with AWPA A5-05 (incorporated by reference in § 1728.97).

(e) Plant facilities and inspection during treatment. (1) Manufacturing and treating plant facilities shall conform to paragraph 3, AWPA M3-05 (incorporated by reference in § 1728.97), Pressure plants shall be equipped with recording instruments to register time, pressure, temperature and vacuum during each cycle of treatment. Pressure plants shall also be equipped with indicating thermometers and pressure and vacuum gauges to check the accuracy of the recorders. Work tanks shall be equipped with a thermometer. Thermal treating vats shall be equipped with a time and temperature recorder and with an indicating thermometer. Temperature recording devices are not mandatory for plants treating exclusively with waterborne preservatives.

(2) Temperature and humidity readings throughout the kiln shall be recorded on a recording chart and verified by observation of direct reading equipment. Gauges and recording equipment shall be calibrated annually.

(3) Recording instruments shall be checked with calibrated indicating gauges and thermometers, per AWPA M3-05 (incorporated by reference in § 1728.97). Inaccuracies shall be referred to the treating plant for prompt correction. If an inaccuracy which indicates error resulting in non-compliance with this specification indicating possible damage to the material, the inspector shall reject the charge.

(f) Results of treatment. (1) Poles shall be tested for retention and penetration by means of a calibrated increment borer 0.2 inches ± 0.02 inches in diameter in accordance with procedures in AWPA M2-07 (incorporated by reference in § 1728.97). Under the Independent Inspection Plan, all treating charges shall be tested for retention and penetration. Plant quality control and independent inspection shall do their analyses separately. Under the Insured Warranty Plan and Quality Assurance Plans, the frequency of testing retention and penetration may vary according to the agency approved plan.

(i) Unless otherwise specified, borings shall be taken approximately 1 foot above the face brand to 1 foot below the face brand. For pressure treated Western Red Cedar and all butt treated poles, borings shall be taken approximately 1 foot below groundline.

(ii) Penetration compliance shall be determined in accordance with AWPA A3-08 (incorporated by reference in § 1728.97). Chrome Azurol S and Penta-Check shall be used to determine penetration of copper containing preservatives and penta, respectively.

(2) Retention sampling shall be when there are 20 or more poles in the treating charge, the retention sample for creosote shall consist of 20 assay zones from southern pine and Douglas-fir poles. All poles in charges with fewer than 20 poles shall be bored once. Charges with less than 15 poles shall be bored once and bored again on a random basis to obtain a minimum of 15 assay zones.

(i) Retention samples shall be taken from 20 poles in charges of 20 or more poles.

(ii) Retention samples for Alaska yellow, western red, and northern white cedars shall consist of a minimum of 30 assay zones for creosote and waterborne preservatives. For penta charges of fewer than 30 poles, the sample shall contain the assay zone from each pole in the lot.

(iii) Retention samples shall consist of borings, representative of pole volumes for each class and length in the charge. Further selection and marking of poles of mixed seasoning, volume, and location on the tram shall be made as illustrated in the following table:

Number of poles | Class/length | Vol. in cu. ft. | % of total volume | Number of borings
27 | 7/30 | 232 | 15 | 3
26 | 4/35 | 447 | 29 | 6
11 | 5/35 | 163 | 10 | 2
55 * | 6/35 | 704 | 46 | 9
Total |  | 1,526 |  |
* If a portion of these poles were green and some partially seasoned, then the number of borings should reflect the approximate percentage of each.

(iv) When material in a lot consists of fewer pieces than the designated minimum number of samples for assay, additional borings shall be taken so as to make up at least the minimum sample, and in such manner that the sample is representative of the lot of material with respect to any variations in size, seasoning condition, or other features that might affect the results of treatment.

(v) Analyses for preservative retention shall be performed as follows:

(A) Creosote retention shall be analyzed by AWPA A6-01 (incorporated by reference in § 1728.97);

(B) Penta retention shall be analyzed by AWPA A5-05 (incorporated by reference in § 1728.97) or AWPA A9-01 (incorporated by reference at § 1728.97). Copper pyridine method is required when timber may have been in contact with salt water and for all species native to the Pacific coast region, unless the raw material invoice specifically states that the material either has not been in contact with salt water or has been shown by analysis to have contained no additional chlorides before treating;

(C) Copper Naphthenate retention shall be analyzed by tests in accordance with AWPA A5-05 (incorporated by reference in § 1728.97) or AWPA A9-01 (incorporated by reference in § 1728.97);

(D) Waterborne preservatives retention shall be analyzed by tests in accordance with AWPA A2-08 (incorporated by reference in § 1728.97), AWPA A7-04 (incorporated by reference in § 1728.97); or AWPA A9-01 (incorporated by reference in § 1728.97); and,

(E) Prior to unloading a tram, the inspectors may take their own samples and analyze them concurrently with the quality control designee, but each shall work independently, and quality control data shall be presented before acceptance of the charge.

(3) The penetration sampling of poles shall conform as follows:

(i) Group A poles consist of poles with a circumference of 37.5 inches or less at 6 feet from butt.

(A) Bore 20 Group A poles or 20 percent of the poles, whichever is greater. Accept if 100 percent of the sample conform; otherwise, bore all poles.

(B) Re-treat the charge if more than 5 percent of the borings are found to be nonconforming.

(C) Re-treat all nonconforming poles if 5 percent or fewer fail the requirement.

(ii) Group B poles consist of poles with circumference greater than 37.5 inches at 6 feet from the butt.

(A) For Group B poles 45 feet and shorter, bore each pole and re-treat only those found to be nonconforming, unless more than 5 percent fail; in that case, re-treat the entire lot.

(B) For Group B 50 feet and longer, bore each pole twice at 90 degrees apart around the pole and accept only those poles conforming to the penetration requirement in both borings. All nonconforming poles may be re-treated only twice.

(iii) All bored holes (nominal 0.2 of an inch diam. bit) shall be promptly filled with treated, tight-fitting wood plugs.

(4) Under the Independent Inspection Plan, all treated charges of crossarms shall be tested for retention and penetration. Plant quality control inspectors and independent inspectors shall do their analyses independently. Under the Quality Assurance Plans, the frequency of testing retention and penetration may vary according to the plan.

(i) The penetration and retention sample shall consist of 20 (48 for creosote) outer 6/10 of an inch for Douglas-fir and 1 inch for Southern Yellow Pine zones from borings taken from any face except the top face at a location as close to the end as possible being at least 3 inches from the end of the arm and no closer than 3 inches from the edge of any holes. For laminated material, borings shall be taken from laminates on a random basis.

(ii) Preservative penetration shall be tested by taking not less than 20 borings from 20 crossarms in each charge, determined in accordance with AWPA A3-08 (incorporated by reference in § 1728.97). Chrome Azurol S and Penta-Check shall be used to determine penetration of copper containing preservatives and penta, respectively.

(5) Laminated material shall be checked for any evidence of delamination due to treatment and for the identifying quality stamp of AITC or American Plywood Association (APA).

(6) If used for analysis, x-ray fluorescence instruments (XRF) shall be accurate and reliable, and they shall generate reproducible results. Instruments shall have thorough instructions which should include recommendations on drying techniques, equipment, and density calculations. These drying recommendations shall be followed when using XRF instruments.

(7) To check the precision and accuracy of the in-plant x-ray fluorescence units (XRF) being used by producers, at least once monthly the independent inspector shall take a retention sample previously analyzed in the producer's laboratory and rerun it in the inspection agency's own laboratory. This sample shall be run utilizing either the XRF or recognized referee method for the given preservative. If the analytical results are within ± 5% of retention value that was previously obtained on the sample using the plant's XRF unit, the plant instrument needs no further calibration. All XRF units maintained by independent agencies as part of their required laboratories shall be calibrated at least quarterly either by the referee method for each preservative treatment being analyzed by said agency or by comparison with a set of graduated treated wood standards.

(8) Each independent inspector and plant quality control personnel that use XRF instruments, shall be properly trained in the analysis of treated wood and preservatives under the supervision of a competent instructor. Proof of training shall be kept on file.

(g) Product acceptance. Under the Independent Inspection Plan, the inspector shall signify acceptance by marking each piece of accepted material with a clear, legible hammer stamp in one end prior to treatment and in the other end after treatment. The inspector shall personally mark each piece, and shall not delegate this responsibility to another person.

(1) Charge Inspection Reports.

(2) Inspection Reports shall include the following:

(i) Total pieces offered by the producer, number of pieces rejected and cause of rejection;

(ii) Conditioning details of the material prior to treatment;

(iii) Copy of preservative analysis by preservative supplier;

(iv) The details of treatment; and

(v) The results of treatment. Results shall include the following:

(A) The depth of penetration for each sample and a summary of all poles rejected for insufficient penetration;

(B) Separate worksheets for retention analyses, prepared by quality control designee and independent inspector.

(3) On each inspection report the independent inspector and the plant quality control designee shall certify, in writing, that the material listed on the report has been inspected before and after treatment, and that the preservative used was analyzed in accordance with the requirements of this section.

(4) Each inspector or inspection agency shall permanently retain for a period of 1 year a copy or transcript of each report of inspection, together with laboratory worksheets covering retention by assay and preservative analyses for the purchaser, and on request shall furnish a copy or transcript of any of these reports to the Chairman, Technical Standards Committee “A”, Electric Staff Division, Rural Utilities Service, Washington, DC 20250-1569.

(h) Charge numbers on re-treat poles. (1) The letter “R” shall be added to the original charge number in the butts of all poles that are re-treated for insufficient penetration or retention of preservative.

(2) All poles that fail to meet treatment requirements after two re-treatments shall be permanently rejected.

(i) Safety provisions. Poles intended for agency borrowers shall not be inspected when, in the opinion of the inspector, unsafe conditions are present.

APPENDIX A TO § 1728.202—INSPECTOR'S QUALIFICATIONS

Inspection agencies should see that inspectors assigned to the inspection of timber products and treatment for borrowers are competent and experienced. In general, any of the following examples are considered as minimum qualifying experience before a new inspector may be permitted to inspect timber products for borrowers:

(a) Three years' experience as an inspector of timber and the preservative treatment of timber; or

(b) Three years' experience in timber treating plant quality control work; or

(c) Under the direct, on site, supervision of an experience, well-qualified inspector, the prospective inspector shall have performed the following:

(1) Inspected at least 10,000 poles and/or crossarms “in the white.”

(2) Checked preservative penetration results on at least 10,000 poles and crossarms;

(3) Made at least 100 wood assays for preservative retention;

(4) Made at lease 25 analyses of each type preservative used on material the person is assigned to inspect; and

(d) In both (a) and (b) of this Appendix A, the experience should be not less than that required in (c).

(e) Inspectors experienced in the inspections of one product, such as poles, should not be qualified to inspect another product, such as crossarms, until the above experience is gained for each respective product.

(f) The inspector should be especially well informed in wood preservation and the operation of a timber treating plant, and be competent in preservative analysis and other laboratory work.

(g) In all cases, an inspector should be thoroughly instructed in the application of the specifications and the standards pertaining thereto before being permitted to independently inspect timber products and the treatments applied to them. Knowledge of these specifications and standards, as well as the inspector's proficiency, may be checked routinely by members of the agency staff.

PART 1755—TELECOMMUNICATIONS STANDARDS AND SPECIFICATIONS FOR MATERIALS, EQUIPMENT AND CONSTRUCTION

4. The authority citation for part 1755 continues to read as follows:

Authority: 7 U.S.C. 901 et seq., 1921 et seq., 6941 et seq.

5. Revise § 1755.97 to read as follows:

§ 1755.97 Telephone standards and specifications.

(a) To comply with the provisions of this part, you must follow the requirements set out in the following RUS telecommunications bulletins. These bulletins are approved for incorporation by reference by the Director of the Office of the Federal Register in accordance with 5 U.S.C. 552(a) and 1 CFR part 51. These bulletins contain construction standards and specifications for materials and equipment and may be obtained from the Rural Utilities Service, Program Development and Regulatory Analysis, 1400 Independence Ave., SW., Stop 1522, Room 4028 South Building, Washington, DC 20250-1522, phone (202) 720-8674. The bulletins are available for inspection at RUS, at the address above, and at the National Archives and Records Administration (NARA). For information on the availability of this material at NARA, call 202-741-6030, or go to: http://www.archives.gov/federal_register/code_of_federal_regulations/ibr_locations.html. These materials are incorporated as they exist on the date of the approval and notice of any change in these materials will be published in the Federal Register. The terms “RUS form”, “RUS standard form”, “RUS specification”, and “RUS bulletin” have the same meaning as the terms “REA form”, “REA standards form”, “REA specification”, and “REA bulletin”, respectively, unless otherwise indicated. For information on other standards incorporated by reference into this part see § 1755.901.

(b) The following RUS bulletins are available from the Superintendent of Documents, U.S. Government Printing Office (GPO) for Washington, DC 20402, Phone: 1-866-512-1800 (toll-free) 202-512-1800 (DC Area) or go to the GPO Web site at: http://www.gpoaccess.gov/about/index.html.

(1) Bulletin 345-39, RUS specification for telephone station protectors, August 19, 1985.

(2) Bulletin 345-50 PE-60, RUS specification for trunk carrier systems, September 1979.

(3) Bulletin 345-54 PE-52, RUS specification for telephone cable splicing connectors, December 1971.

(4) Bulletin 345-55 PE-61, RUS specification for central office loop extenders and loop extender voice frequency repeater combinations, December 1973.

(5) Bulletin 345-65, PE-65, Specification for shield bonding connectors, March 22, 1985.

(6) Bulletin 345-66 PE-64, RUS specification for subscriber carrier systems, September 1979.

(7) Bulletin 345-69 PE-29, RUS specification for two-wire voice frequency repeater equipment, January 1978.

(8) Bulletin 345-72 PE-74, RUS specification for filled splice closures, October 1985.

(9) Bulletin 345-78 PE-78, RUS specification for carbon arrester assemblies for use in protectors, February 1980.

(10) Bulletin 345-180 Form 397a, RUS specifications for voice frequency repeaters and voice frequency repeatered trunks, January 1963.

(11) Bulletin 345-183 Form 397d, RUS design specifications for point-to-point microwave radio systems June 1970.

(12) Bulletin 345-184 Form 397e, RUS design specifications for mobile and fixed dial radio telephone equipment May 1971.

(13) Bulletin 1728F-700, RUS Specification for Wood Poles, Stubs and Anchor Logs, (3-2011).

(14) Bulletin 1753F-150 Form 515a, Specifications and Drawings for Construction of Direct Buried Plant, September 30, 2010.

(15) Bulletin 1753F-151 Form 515b, Specifications and Drawings for Construction of Underground Plan, September 12, 2001.

(16) Bulletin 1753F-152 Form 515c, Specifications and Drawings for Construction of Aerial Plant, September 17, 2001.

(17) Bulletin 1753F-153 Form 515d, Specifications and Drawings for Service Installation at Customer Access Locations, September 17, 2001.

Dated: May 31, 2011.
Jonathan Adelstein,
Administrator, Rural Utilities Service.

[FR Doc. 2011-14567 Filed 6-23-11; 8:45 am]

BILLING CODE P